FEDERAL MARITIME COMMISSION

[Docket No. 08-07]

Petition of Olympus Growth Fund III, L.P. and Olympus Executive Fund, L.P. for Declaratory Order, Rulemaking or Other Relief; Erratum

February 26, 2009.

In the Request for Comments in Docket 08-07, served February 19, 2009 and appearing in the Federal Register on February 25, 2009 (74 FR 8541), the date in the first sentence is corrected to read “March 13, 2009.”

Karen V. Gregory,
Secretary.

[FR Doc. E9-4598 Filed 3-3-09; 8:45 am]

BILLING CODE 6730-01-P